DEPARTMENT OF HOMELAND SECURITY

Federal Emergency Management Agency

[Docket ID FEMA-2018-0002; Internal Agency Docket No. FEMA-B-1845]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

David I. Maurstad,
Deputy Associate Administrator for Insurance and Mitigation, Department of Homeland Security, Federal Emergency Management Agency.

State and county | Location and case No. | Chief executive officer of community | Community map repository | Online location of letter of map revision | Date of modification | Community No.
Alabama:
Colbert | City of Muscle Shoals (17-04-1041P) | The Honorable David H. Bradford, Mayor, City of Muscle Shoals, P.O. Box 2624, Muscle Shoals, AL 35662 | Engineering Department, 2010 East Avalon Avenue, Muscle Shoals, AL 35662 | https://msc.fema.gov/portal/advanceSearch | Sept. 24, 2018 | 010047
Colbert | City of Sheffield (17-04-1041P) | The Honorable Ian T. Sanford, Mayor, City of Sheffield, P.O. Box 380, Sheffield, AL 35660 | Planning and Zoning Department, 600 North Montgomery Avenue, Sheffield, AL 35660 | https://msc.fema.gov/portal/advanceSearch | Sept. 24, 2018 | 010048
Colbert | Unincorporated areas of Colbert County (17-04-1041P) | The Honorable Daroll Bendall, Chairman, Colbert County Board of Commissioners, 201 North Main Street, Tuscumbia, AL 35674 | Colbert County Courthouse, 201 North Main Street, Tuscumbia, AL 35674 | https://msc.fema.gov/portal/advanceSearch | Sept. 24, 2018 | 010318
Shelby | City of Montevallo (18-04-1231P) | The Honorable Hollie Cost, Mayor, City of Montevallo, 541 Main Street, Montevallo, AL 35115 | City Hall, 541 Main Street, Montevallo, AL 35115 | https://msc.fema.gov/portal/advanceSearch | Oct. 25, 2018 | 010349
Shelby | Unincorporated areas of Shelby County (18-04-1231P) | The Honorable Jon Parker, Chairman, Shelby County Board of Commissioners, 200 West College Street, Columbiana, AL 35051 | Shelby County Engineering Department, 506 Highway 70, Columbiana, AL 35051 | https://msc.fema.gov/portal/advanceSearch | Oct. 25, 2018 | 010191
Colorado:
Boulder | City of Boulder (18-08-0256P) | The Honorable Suzanne Jones, Mayor, City of Boulder, 1777 Broadway Street, Boulder, CO 80302 | City Hall, 1777 Broadway Street, Boulder, CO 80302 | https://msc.fema.gov/portal/advanceSearch | Nov. 2, 2018 | 080024
Jefferson | Unincorporated areas of Jefferson County (18-08-0676X) | The Honorable Libby Szabo, Chair, Jefferson County Board of Commissioners, 100 Jefferson County Parkway, Golden, CO 80419 | Jefferson County Department of Planning and Zoning, 100 Jefferson County Parkway, Golden, CO 80419 | https://msc.fema.gov/portal/advanceSearch | Oct. 5, 2018 | 080087
Florida:
Brevard | City of Cape Canaveral (18-04-3826P) | The Honorable Bob Hoog, Mayor, City of Cape Canaveral, 100 Polk Avenue, Cape Canaveral, FL 32920 | Community Development Department, 100 Polk Avenue, Cape Canaveral, FL 32920 | https://msc.fema.gov/portal/advanceSearch | Oct. 16, 2018 | 125094
Charlotte | Unincorporated areas of Charlotte County (18-04-2509P) | The Honorable Ken Doherty, Chairman, Charlotte County Board of Commissioners, 18500 Murdock Circle, Suite 536, Port Charlotte, FL 33948 | Charlotte County Community Development Department, 18500 Murdock Circle, Port Charlotte, FL 33948 | https://msc.fema.gov/portal/advanceSearch | Oct. 16, 2018 | 120061
Charlotte | Unincorporated areas of Charlotte County (18-04-3229P) | The Honorable Ken Doherty, Chairman, Charlotte County Board of Commissioners, 18500 Murdock Circle, Suite 536, Port Charlotte, FL 33948 | Charlotte County Community Development Department, 18500 Murdock Circle, Port Charlotte, FL 33948 | https://msc.fema.gov/portal/advanceSearch | Oct. 10, 2018 | 120061
Charlotte | Unincorporated areas of Charlotte County (18-04-3470P) | The Honorable Ken Doherty, Chairman, Charlotte County Board of Commissioners, 18500 Murdock Circle, Suite 536, Port Charlotte, FL 33948 | Charlotte County Community Development Department, 18500 Murdock Circle, Port Charlotte, FL 33948 | https://msc.fema.gov/portal/advanceSearch | Oct. 11, 2018 | 120061
Duval | City of Atlantic Beach (17-04-4155P) | The Honorable Ellen E. Glasser, Mayor, City of Atlantic Beach, 800 Seminole Road, Atlantic Beach, FL 32233 | City Hall, 800 Seminole Road, Atlantic Beach, FL 32233 | https://msc.fema.gov/portal/advanceSearch | Nov. 5, 2018 | 120075
Duval | City of Jacksonville (17-04-4155P) | The Honorable Lenny Curry, Mayor, City of Jacksonville, 117 West Duval Street, Suite 400, Jacksonville, FL 32202 | City Hall, 214 North Hogan Street, Suite 2100, Jacksonville, FL 32202 | https://msc.fema.gov/portal/advanceSearch | Nov. 5, 2018 | 120077
Lee | City of Sanibel (18-04-3742P) | The Honorable Kevin Ruane, Mayor, City of Sanibel, 800 Dunlop Road, Sanibel, FL 33957 | Planning Department, 800 Dunlop Road, Sanibel, FL 33957 | https://msc.fema.gov/portal/advanceSearch | Oct. 25, 2018 | 120402
Lee | City of Sanibel (18-04-3819P) | The Honorable Kevin Ruane, Mayor, City of Sanibel, 800 Dunlop Road, Sanibel, FL 33957 | Planning Department, 800 Dunlop Road, Sanibel, FL 33957 | https://msc.fema.gov/portal/advanceSearch | Oct. 26, 2018 | 120402
Lee | Town of Fort Myers Beach (18-04-2108P) | The Honorable Tracey Gore, Mayor, Town of Fort Myers Beach, 2525 Estero Boulevard, Fort Myers Beach, FL 33931 | Community Development Department, 2525 Estero Boulevard, Fort Myers Beach, FL 33931 | https://msc.fema.gov/portal/advanceSearch | Oct. 15, 2018 | 120673
Monroe | Unincorporated areas of Monroe County (18-04-3505P) | The Honorable David Rice, Mayor, Monroe County Board of Commissioners, 1100 Simonton Street, Key West, FL 33040 | Monroe County Building Department, 2798 Overseas Highway, Suite 300, Marathon, FL 33050 | https://msc.fema.gov/portal/advanceSearch | Oct. 19, 2018 | 125129
Monroe | Unincorporated areas of Monroe County (18-04-3566P) | The Honorable David Rice, Mayor, Monroe County Board of Commissioners, 1100 Simonton Street, Key West, FL 33040 | Monroe County Building Department, 2798 Overseas Highway, Suite 300, Marathon, FL 33050 | https://msc.fema.gov/portal/advanceSearch | Oct. 10, 2018 | 125129
Monroe | Unincorporated areas of Monroe County (18-04-3568P) | The Honorable David Rice, Mayor, Monroe County Board of Commissioners, 1100 Simonton Street, Key West, FL 33040 | Monroe County Building Department, 2798 Overseas Highway, Suite 300, Marathon, FL 33050 | https://msc.fema.gov/portal/advanceSearch | Oct. 22, 2018 | 125129
Monroe | Village of Islamorada (18-04-3795P) | The Honorable Chris Sante, Mayor, Village of Islamorada, 86800 Overseas Highway, Islamorada, FL 33036 | Planning and Development Department, 86800 Overseas Highway, Islamorada, FL 33036 | https://msc.fema.gov/portal/advanceSearch | Oct. 26, 2018 | 120424
Nassau | Unincorporated areas of Nassau County (18-04-3296P) | The Honorable Pat Edwards, Chairman, Nassau County Board of Commissioners, 96135 Nassau Place, Suite 1, Yulee, FL 32097 | Nassau County Building Department, 96161 Nassau Place, Yulee, FL 32097 | https://msc.fema.gov/portal/advanceSearch | Oct. 11, 2018 | 120170
Maine:
Washington | Town of Charlotte (18-01-1031P) | The Honorable Ernest James, Chairman, Town of Charlotte Board of Selectmen, P.O. Box 55, Pembroke, ME 04666 | Town Hall, 1098 Ayers Junction Road, Charlotte, ME 04666 | https://msc.fema.gov/portal/advanceSearch | Oct. 11, 2018 | 230437
Washington | Town of Pembroke (18-01-1031P) | The Honorable Milan Jamieson, Chairman, Town of Pembroke, Board of Selectmen, P.O. Box 247, Pembroke, ME 04666 | Town Hall, 48 Old County Road, Pembroke, ME 04666 | https://msc.fema.gov/portal/advanceSearch | Oct. 11, 2018 | 230143
Washington | Town of Robbinston (18-01-1031P) | The Honorable Tom Moholland, Chairman, Town of Robbinston Board of Selectmen, 986 Ridge Road, Robbinston, ME 04671 | Town Hall, 904 U.S. Route 1, Robbinston, ME 04671 | https://msc.fema.gov/portal/advanceSearch | Oct. 11, 2018 | 230321
Maryland: Prince George's | Unincorporated areas of Prince George's County (18-03-0330P) | The Honorable Rushern L. Baker, III, Prince George's County Executive, 14741 Governor Oden Bowie Drive, Upper Marlboro, MD 20772 | Prince George's County Department of Environment, 1801 McCormick Drive, Suite 500, Largo, MD 20774 | https://msc.fema.gov/portal/advanceSearch | Nov. 2, 2018 | 245208
Massachusetts:
Bristol | Town of Westport (18-01-0550P) | The Honorable Shana M. Shufelt, Chair, Town of Westport Board of Selectmen, 816 Main Road, Westport, MA 02790 | Building Department, 856 Main Road, Westport, MA 02790 | https://msc.fema.gov/portal/advanceSearch | Oct. 12, 2018 | 255224
New Hampshire:
Rockingham | Town of Exeter (18-01-0144P) | The Honorable Julie Gilman, Chair, Town of Exeter Select Board, 10 Front Street, Exeter, NH 03833 | Building Department, 10 Front Street, Exeter, NH 03833 | https://msc.fema.gov/portal/advanceSearch | Nov. 5, 2018 | 330130
New Mexico:
Bernalillo | Unincorporated areas of Bernalillo County (18-06-0450P) | Ms. Julie Morgas Baca, Bernalillo County Manager, 1 Civic Plaza Northwest, Albuquerque, NM 87102 | Bernalillo County Public Works Division, 2400 Broadway Boulevard Southeast, Albuquerque, NM 87102 | https://msc.fema.gov/portal/advanceSearch | Oct. 5, 2018 | 350001
North Carolina:
Iredell | Unincorporated areas of Iredell County (18-04-1249P) | The Honorable James Mallory, III, Chairman, Iredell County Board of Commissioners, P.O. Box 788, Statesville, NC 28687 | Iredell County Planning Department, 349 North Center Street, Statesville, NC 28687 | https://msc.fema.gov/portal/advanceSearch | Oct. 17, 2018 | 370313
Watauga | Town of Boone (18-04-0473P) | The Honorable Rennie Brantz, Mayor, Town of Boone, 567 West King Street, Boone, NC 28607 | Planning and Inspections Department, 680 West King Street, Boone, NC 28607 | https://msc.fema.gov/portal/advanceSearch | Oct. 4, 2018 | 370253
Watauga | Unincorporated Areas of Watauga County (18-04-0473P) | The Honorable John Welch, Chairman, Watauga County Board of Commissioners, 814 West King Street, Suite 205, Boone, NC 28607 | Watauga County Planning and Inspections Department, 331 Queen Street, Suite A, Boone, NC 28607 | https://msc.fema.gov/portal/advanceSearch | Oct. 4, 2018 | 370251
South Carolina:
Lexington | Town of Irmo (18-04-3966P) | The Honorable Hardy K. King, Mayor, Town of Irmo, 501 Doncaster Drive, Irmo, SC 29063 | Town Hall, 7300 Woodrow Street, Irmo, SC 29063 | https://msc.fema.gov/portal/advanceSearch | Oct. 12, 2018 | 450133
South Dakota: Codington | City of Watertown (17-08-0664P) | The Honorable Sarah Caron, Mayor, City of Watertown, 23 2nd Street Northeast, Watertown, SD 572018 | Planning and Zoning Department, 23 2nd Street Northeast, Watertown, SD 572018 | https://msc.fema.gov/portal/advanceSearch | Nov. 5, 2018 | 460016
Texas:
Collin | City of Plano (18-06-0609P) | The Honorable Harry LaRosiliere, Mayor, City of Plano, 1520 K Avenue, Plano, TX 75074 | Engineering Department, 1520 K Avenue, Suite 250, Plano, TX 75074 | https://msc.fema.gov/portal/advanceSearch | Oct. 12, 2018 | 480140
Collin | Unincorporated areas of Collin County (18-06-0382P) | The Honorable Keith Self, Collin County Judge, 2300 Bloomdale Road, Suite 4192, McKinney, TX 75071 | Collin County Emergency Management Department, 4690 Community Avenue, Suite 200, McKinney, TX 75071 | https://msc.fema.gov/portal/advanceSearch | Oct. 15, 2018 | 480130
Dallas | City of Dallas (18-06-0377P) | The Honorable Michael S. Rawlings, Mayor, City of Dallas, 1500 Marilla Street, Suite 5EN, Dallas, TX 752018 | Floodplain Management Department, 320 East Jefferson Boulevard, Room 307, Dallas, TX 75203 | https://msc.fema.gov/portal/advanceSearch | Oct. 15, 2018 | 480171
El Paso | City of El Paso (16-06-3207P) | Mr. Tommy Gonzalez, Manager, City of El Paso, 300 North Campbell Street, El Paso, TX 79901 | City Hall, 801 Texas Avenue, El Paso, TX 79901 | https://msc.fema.gov/portal/advanceSearch | Oct. 15, 2018 | 480214
Montgomery | City of Magnolia (18-06-1973P) | The Honorable Todd Kana, Mayor, City of Magnolia, 18111 Buddy Riley Boulevard, Magnolia, TX 77354 | City Hall, 18111 Buddy Riley Boulevard, Magnolia, TX 77354 | https://msc.fema.gov/portal/advanceSearch | Oct. 12, 2018 | 481261
Montgomery | Unincorporated areas of Montgomery County (18-06-1973P) | The Honorable Craig Doyal, Montgomery County Judge, 501 North Thompson Street, Suite 401, Conroe, TX 77301 | Montgomery County Permit Office, 501 North Thompson Street, Suite 100, Conroe, TX 77301 | https://msc.fema.gov/portal/advanceSearch | Oct. 12, 2018 | 480483
Parker | City of Fort Worth (18-06-1767P) | The Honorable Betsy Price, Mayor, City of Fort Worth, 200 Texas Street, Fort Worth, TX 76102 | Transportation and Public Works Department, 200 Texas Street, Fort Worth, TX 76102 | https://msc.fema.gov/portal/advanceSearch | Oct. 22, 2018 | 480596
Rockwall | City of Rockwall (18-06-0382P) | The Honorable Jim Pruitt, Mayor, City of Rockwall, 385 South Goliad Street, Rockwall, TX 75087 | Engineering Department, 385 South Goliad Street, Rockwall, TX 75087 | https://msc.fema.gov/portal/advanceSearch | Oct. 15, 2018 | 480547
Tarrant | City of Fort Worth (18-06-0617P) | The Honorable Betsy Price, Mayor, City of Fort Worth, 200 Texas Street, Fort Worth, TX 76102 | Transportation and Public Works Department, 200 Texas Street, Fort Worth, TX 76102 | https://msc.fema.gov/portal/advanceSearch | Oct. 9, 2018 | 480596
Tarrant | City of Kennedale (18-06-0322P) | The Honorable Brian Johnson, Mayor, City of Kennedale, 405 Municipal Drive, Kennedale, TX 76060 | Planning and Development Department, 405 Municipal Drive, Kennedale, TX 76060 | https://msc.fema.gov/portal/advanceSearch | Oct. 15, 2018 | 480603
Tarrant | City of Mansfield (18-06-0226P) | The Honorable David L. Cook, Mayor, City of Mansfield, 1200 East Broad Street, Mansfield, TX 76063 | City Hall, 1200 East Broad Street, Mansfield, TX 76063 | https://msc.fema.gov/portal/advanceSearch | Oct. 11, 2018 | 480606
Tarrant | City of Saginaw (18-06-0328P) | The Honorable Todd Flippo, Mayor, City of Saginaw, 333 West McLeroy Boulevard, Saginaw, TX 76179 | Public Works Department, 205 Brenda Lane, Saginaw, TX 76179 | https://msc.fema.gov/portal/advanceSearch | Oct. 4, 2018 | 480610
Tom Green | City of San Angelo (18-06-0816P) | The Honorable Brenda Gunter, Mayor, City of San Angelo, 72 West College Avenue, San Angelo, TX 76903 | City Hall, 301 West Beauregard Avenue, San Angelo, TX 76903 | https://msc.fema.gov/portal/advanceSearch | Oct. 16, 2018 | 480623
Virginia:
Fairfax | Unincorporated areas of Fairfax County (18-03-0171P) | The Honorable Sharon Bulova, Chair, Fairfax County Board of Supervisors, 12000 Government Center Parkway, Fairfax, VA 22035 | Fairfax County Stormwater Planning Division, 12000 Government Center Parkway, Suite 449, Fairfax, VA 22035 | https://msc.fema.gov/portal/advanceSearch | Oct. 12, 2018 | 515525
Prince William | Unincorporated areas of Prince William County (18-03-0171P) | Mr. Christopher E. Martino, Prince William County Executive, 1 County Complex Court, Prince William, VA 22192 | Prince William County Department of Public Works, 5 County Complex Court, Prince William, VA 22192 | https://msc.fema.gov/portal/advanceSearch | Oct. 12, 2018 | 510119
West Virginia:
Preston | Unincorporated areas of Preston William County (18-03-0988P) | The Honorable T. Craig Jennings, President, Preston County Commission, 106 West Main Street, Suite 202, Kingwood, WV 26537 | Preston County Office of Emergency Management, 300 Rich Wolfe Drive, Kingwood, WV 26537 | https://msc.fema.gov/portal/advanceSearch | Oct. 9, 2018 | 540160

[FR Doc. 2018-17243 Filed 8-10-18; 8:45 am]

BILLING CODE 9110-12-P